DEPARTMENT OF THE TREASURY

Internal Revenue Service

26 CFR Part 1

[REG-129709-03]

RIN 1545-BC34

Prohibited Allocations of Securities in an S Corporation

AGENCY: Internal Revenue Service (IRS), Treasury.

ACTION: Correction to notice of proposed rulemaking by cross-reference to temporary regulations and notice of public hearing.

SUMMARY: This document contains corrections to a notice of proposed rulemaking that was published in the Federal Register on December 17, 2004 (69 FR 75492), relating to prohibited allocations of securities in an S Corporation.

FOR FURTHER INFORMATION CONTACT: John Ricotta at (202) 622-6060 (not a toll-free number).

SUPPLEMENTARY INFORMATION:

Background

The notice of proposed rulemaking (REG-129709-03) that is the subject of this correction is under section 409 of the Internal Revenue Code.

Need for Correction

As published the notice of proposed rulemaking (REG-129709-03), contains errors that may prove to be misleading and are in need of clarification.

Correction of Publication

Accordingly, the publication of the notice of proposed rulemaking by cross-reference to temporary regulations and notice of public hearing (REG-129709-03), which was the subject of FR Doc. 04-27295, is corrected as follows:

1. On page 75492, column 2, in the preamble under the caption DATES, the second sentence from the bottom of the paragraph, the language “10 a.m. must be received by March 14,” is corrected to read “10 a.m. must be received by March 30,”.

2. On page 75492, column 2, in the preamble under the caption ADDRESSES, the last sentence, the language “REG-129703-03).” is corrected to read “REG-129709-03).”.

3. On page 75492, column 3, in the preamble under the caption Comments and Requests for a Public Hearing, paragraph 3, line 8, the language “March 14, 2005. A period of 10 minutes” is corrected to read “March 30, 2005. A period of 10 minutes”.

PART 1—[AMENDED]

§ 1.409(p)-1 [Corrected]

4. On page 75493, column 1, the section title for § 1.409(p)-1, the language “Prohibited allocation of securities in an S Corporation.” is corrected to read “Prohibited allocations of securities in an S Corporation.”.

Guy R. Traynor,
Federal Register Liaison, Publication and Regulations Branch, Legal Processing Division, Associate Chief Counsel, Procedures and Administration.

[FR Doc. 05-2200 Filed 2-3-05; 8:45 am]

BILLING CODE 4830-01-P